DEPARTMENT OF THE TREASURY

Internal Revenue Service

26 CFR Part 301

[REG-131151-10]

RIN 1545-BJ89

Rewards and Awards for Information Relating to Violations of Internal Revenue Laws

Correction

In proposed rule document 2011-928 appearing on pages 2852-2853 in the issue of Tuesday, January 18, 2011 make the following correction:

On page 2852, in the third column, in the second paragraph under the heading Background and Explanation of Provision, in the 12th line, “of the information provided z5” should read “of the information provided.”

[FR Doc. C1-2011-928 Filed 2-3-11; 8:45 am]

BILLING CODE 1505-01-D